DEPARTMENT OF COMMERCE

National Oceanic and Atmospheric Administration

50 CFR Part 679

[Docket No. 170817779-8161-02]

RIN 0648-XG158

Fisheries of the Exclusive Economic Zone Off Alaska; Bering Sea and Aleutian Islands; 2018 and 2019 Harvest Specifications for Groundfish; Correction

AGENCY: National Marine Fisheries Service (NMFS), National Oceanic and Atmospheric Administration (NOAA), Commerce.

ACTION: Temporary rule; correction.

SUMMARY: NMFS is correcting the final 2018 and 2019 harvest specifications for groundfish in the Bering Sea and Aleutian Islands management area (BSAI). The amounts of Atka mackerel specified for the Amendment 80 sector in the Central Aleutian District (CAI) and the Western Aleutian District (WAI) were incorrect.

DATES: Effective April 18, 2018, through 2400 hours, Alaska local time (A.l.t) December 31, 2019.

FOR FURTHER INFORMATION CONTACT: Steve Whitney, 907-586-7228.

SUPPLEMENTARY INFORMATION:

Need for Correction

NMFS published the final 2018 and 2019 BSAI groundfish harvest specifications on February 27, 2018 (83 FR 8365). The document contains incorrect amounts of Atka mackerel specified for the Amendment 80 sector in the CAI and the WAI. These corrections are necessary to provide the correct information about the amount of Atka mackerel allocated to the Amendment 80 sector in these districts, and to avoid confusion by the fishery participants.

Correction

In the Federal Register of February 27, 2018 (83 FR 8365) the Amendment 80 sector allocation in the CAI for 2018 and 2019 did not account for the 75 metric ton incidental catch allowance (ICA), and the Amendment 80 sector allocation in the WAI for 2018 and 2019 did not account for the 20 metric ton ICA. Therefore, Table 6 and Table 7 of the final 2018 and 2019 BSAI groundfish harvest specifications are republished as follows:

Table 6—Final 2018 Seasonal and Spatial Allowances, Gear Shares, CDQ Reserve, Incidental Catch Allowance, and Amendment 80 Allocations of the BSAI Atka Mackerel TAC
[Amounts are in metric tons]
Sector ¹ | Season 2 3 4 | 2018 Allocation by area: Eastern Aleutian District/Bering Sea | 2018 Allocation by area: Central Aleutian District ⁵ | 2018 Allocation by area: Western Aleutian District
TAC | n/a | 36,500 | 21,000 | 13,500
CDQ reserve | Total | 3,906 | 2,247 | 1,445
| A | 1,953 | 1,124 | 722
| Critical Habitat | n/a | 674 | 433
| B | 1,953 | 1,124 | 722
| Critical Habitat | n/a | 674 | 433
Non-CDQ TAC | n/a | 32,595 | 18,753 | 12,056
ICA | Total | 800 | 75 | 20
Jig ⁶ | Total | 159 | 0 | 0
BSAI trawl limited access | Total | 3,164 | 1,868 | 0
| A | 1,582 | 934 | 0
| Critical Habitat | n/a | 560 | 0
| B | 1,582 | 934 | 0
| Critical Habitat | n/a | 560 | 0
Amendment 80 sector | Total | 28,472 | 16,810 | 12,036
| A | 14,236 | 8,405 | 6,018
| Critical Habitat | n/a | 5,043 | 3,611
| B | 14,236 | 8,405 | 6,018
| Critical Habitat | n/a | 5,043 | 3,611
¹ Section 679.20(a)(8)(ii) allocates the Atka mackerel TACs, after subtracting the CDQ reserves, jig gear allocation, and ICAs, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20(a)(8)(ii)(C)(2) requires the TAC in Area 543 shall be no more than 65 percent of ABC in Area 543.
⁶ Section 679.20(a)(8)(i) requires that up to 2 percent of the Eastern Aleutian District and the Bering Sea subarea TAC be allocated to jig gear after subtracting the CDQ reserve and the ICA. NMFS set the amount of this allocation for 2018 at 0.5 percent. The jig gear allocation is not apportioned by season.
Note: Seasonal or sector apportionments may not total precisely due to rounding.

Table 7—Final 2019 Seasonal and Spatial Allowances, Gear Shares, CDQ Reserve, Incidental Catch Allowance, and Amendment 80 Allocation of the BSAI Atka Mackerel TAC
[Amounts are in metric tons]
Sector ¹ | Season 2 3 4 | 2019 Allocation by area: Eastern Aleutian District/Bering Sea | 2019 Allocation by area: Central Aleutian District ⁵ | 2019 Allocation by area: Western Aleutian District ⁵
TAC | n/a | 33,780 | 24,895 | 13,825
CDQ reserve | Total | 3,614 | 2,664 | 1,479
| A | 1,807 | 1,332 | 740
| Critical Habitat | n/a | 799 | 444
| B | 1,807 | 1,332 | 740
| Critical Habitat | n/a | 799 | 444
non-CDQ TAC | n/a | 30,166 | 22,231 | 12,346
ICA | Total | 800 | 75 | 20
Jig ⁶ | Total | 147 | 0 | 0
BSAI trawl limited access | Total | 2,922 | 2,216 | 0
| A | 1,461 | 1,108 | 0
| Critical Habitat | n/a | 665 | 0
| B | 1,461 | 1,108 | 0
| Critical Habitat | n/a | 665 | 0
Amendment 80 sectors⁷ | Total | 26,297 | 19,941 | 12,326
| A | 13,148 | 9,970 | 6,163
| Critical Habitat | n/a | 5,982 | 3,698
| B | 13,148 | 9,970 | 6,163
| Critical Habitat | n/a | 5,982 | 3,698
¹ Section 679.20(a)(8)(ii) allocates the Atka mackerel TACs, after subtracting the CDQ reserves, jig gear allocation, and ICAs, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20 (a)(8)(ii)(C)(2) requires the TAC in Area 543 shall be no more than 65 percent of ABC in Area 543.
⁶ Section 679.20(a)(8)(i) requires that up to 2 percent of the Eastern Aleutian District and the Bering Sea subarea TAC be allocated to jig gear after subtracting the CDQ reserve and the ICA. NMFS set the amount of this allocation for 2019 at 0.5 percent. The jig gear allocation is not apportioned by season.
⁷ The 2019 allocations for Atka mackerel between Amendment 80 cooperatives and the Amendment 80 limited access sector will not be known until eligible participants apply for participation in the program by November 1, 2018. NMFS will post 2019 Amendment 80 allocations when they become available in December 2018.
Note: Seasonal or sector apportionments may not total precisely due to rounding.

Classification

The Assistant Administrator for Fisheries, NOAA (AA), finds good cause to waive the requirement to provide prior notice and opportunity for public comment pursuant to the authority set forth at 5 U.S.C. 553(b)(B) as such requirement is impracticable and contrary to the public interest. This action corrects errors made in the allocations to the Amendment 80 sector of Atka mackerel in the CAI and WAI districts of the BSAI. This correction does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.

Authority: 16 U.S.C. 1801 et seq.

Dated: April 13, 2018.
Jennifer M. Wallace,
Acting Director, Office of Sustainable Fisheries, National Marine Fisheries Service.

[FR Doc. 2018-08123 Filed 4-17-18; 8:45 am]

BILLING CODE 3510-22-P